DEPARTMENT OF ENGERY

Federal Energy Regulatory Commission

[Docket No. CP04-10-000]

EnCana Border Pipelines Limited and Omimex Canada, Ltd.; Notice of Application

October 30, 2003.

On October 24, 2003, EnCana Border Pipelines Limited (EnCana Border), formerly 3698157 Canada Ltd., and Omimex Canada, Ltd. (Omimex) filed an application requesting the Commission to issue an order transferring 3698157 Canada Ltd 's NGA Section 3 authorization and Presidential Permit to Omimex to operate and maintain facilities at the international boundary between the United States and Canada at Reagan, Alberta and Del Bonita, Montana for the importation of natural gas into the United States, all as more fully set forth in the application on file with the Commission and open to public inspection. This filing may be viewed on the Web at http://www.ferc.gov using the “eLibrary” link. Enter the docket number excluding the last three digits in the docket number field to access the document. For assistance, contact FERC Online Support at FERCOnlineSupport@ferc.gov or toll-free at (866) 208-3676, or for TTY, contact (202) 502-8659.

EnCana Border and Ominex state that the facilities consist of approximately one mile of 4½ inch pipe extending from the interconnection with the EnCana Border system on the northern side of the international boundary between the United States and Canada in a southerly direction to the interconnection with the 4-inch gathering line owned by Northwestern Corporation, formerly Montana Power Gas Company.

EnCana Border and Omimex state that approval of the subject request would facilitate the sale of the facilities to Omimex pursuant to a Purchase and Sale Agreement between EnCana Border and Omimex. The transfer will not affect the underlying use of the Facilities or the services that are currently provided to customers on the Facilities.

Any questions regarding the application should be directed to Stefan M. Krantz, Esquire, Dickstein Shapiro Morin & Oshinsky LLP, 2101 L Street, NW., Washington, DC 20037, at (202) 861-9113.

There are two ways to become involved in the Commission's review of this project. First, any person wishing to obtain legal status by becoming a party to the proceedings for this project should, on or before the comment date stated below file with the Federal Energy Regulatory Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission Orders in the proceeding.

A person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for mailing of environmental documents issued by the Commission) and will not have the right to seek court review of the Commission's final order.

Comments, protests and interventions may be filed electronically via the Internet in lieu of paper. The Commission strongly encourages electronic filings. See, 18 CFR 385.2001(a)(1)(iii) and instructions on the Commission's web site under the “e-Filing” link.

If the Commission decides to set the application for a formal hearing before an Administrative Law Judge, the Commission will issue another notice describing that process. At the end of the Commission's review process, a final Commission order approving or denying a certificate will be issued.

Comment Date: November 20, 2003.

Magalie R. Salas,
Secretary.

[FR Doc. E3-00181 Filed 11-04-03; 8:45 am]

BILLING CODE 6717-01-P